DEPARTMENT OF COMMERCE

National Oceanic and Atmospheric Administration

[I.D. 022200I]

Mid-Atlantic Fishery Management Council, Public Meetings; Corrections

AGENCY: National Marine Fisheries Service (NMFS), National Oceanic and Atmospheric Administration (NOAA), Commerce.

ACTION: Correction of public meeting notice.

SUMMARY: The Mid-Atlantic Fishery Management Council (MAFMC) substitutes a meeting of the Joint MAFMC/New England Fishery Management Council (NEFMC) Spiny Dogfish Committee in place of its Spiny Dogfish Working Group meeting and adds an agenda item to consider the recommendations of this committee to its meeting agenda published in the Federal Register on February 29, 2000. The purpose of the meeting and additional agenda item is to come to an agreement with the NEFMC on how to manage the spiny dogfish fishery resource for the upcoming fishing year. The NEFMC, at a later date in March, will consider the recommendations of the Joint Spiny Dogfish Committee.

DATES: The Joint Spiny Dogfish Committee meeting will be on Tuesday, March 14, 2000, from 1:00 until 5:00 p.m. The MAFMC will consider the recommendations of that committee on Thursday, March 16, 2000. The NEFMC will consider the recommendations of the Joint Spiny Dogfish Committee at its March 21-23, 2000, meeting in Gloucester, MA.

ADDRESSES: The MAFMC meeting will be held at the Wyndham Garden Hotel, 173 Jennifer Road, Annapolis, MD, telephone 410-266-3131.

Council Addresses: Mid-Atlantic Fishery Management Council, 300 S. New Street, Dover, DE 19904, telephone 302-674-2331; or New England Fishery Management Council, 50 Water Street, The Tannery - Mill 2, Newburyport, MA 019150, telephone 978-465-0492

FOR FURTHER INFORMATION CONTACT: Daniel T. Furlong, Executive Director, Mid-Atlantic Fishery Management Council, telephone 302-674-2331, ext. 19; or Paul J. Howard, Executive Director, New England Fishery Management Council, telephone 978-465-0492.

SUPPLEMENTARY INFORMATION: The original notice of these meetings was published in the Federal Register on February 29, 2000 (65 FR 10771).

Revise the SUMMARY to read: “The Mid-Atlantic Fishery Management Council (Council) and its Monkfish Working Group, Comprehensive Management Committee, Surfclam and Ocean Quahog Committee and Industry Advisory Panel, Squid-Mackerel-Butterfish Committee, Information and Education Committee, and Executive Committee and the Joint Spiny Dogfish Committee of the Mid- Atlantic and New England Fishery Management Councils will hold public meetings.

Under SUPPLEMENTARY INFORMATION revise the Tuesday, March 14th, 1:00-3:00 p.m. entry to read:

From 1:00-5:00 p.m., the Joint Spiny Dogfish Committee will meet.

Revise the paragraph after “Agenda items for this meeting are:” and add another paragraph to read:

Discuss and recommend area adjustments through the amendment process to the Monkfish Fishery Management Plan; review the recommendations of the Joint Spiny Dogfish Committee regarding management of the Spiny dogfish resource for the upcoming year and make recommendations for its management; discuss the research set aside amendment and summer flounder workshop(s) postponement; receive assessment information on Atlantic mackerel and surfclams; discuss 5-year quotas and a new overfishing definition for surfclams; discuss mackerel limited entry, Illex real time management, an overfishing definition for Loligo, and area closures to protect Loligo egg masses; and consider distribution of the Loligo squid quota into time periods.

The purpose of consideration of the recommendations of the Joint Spiny Dogfish Committee is for the Mid-Atlantic and New England Fishery Management Councils to come to agreement on how to manage the spiny dogfish resource for the upcoming fishing year. According to the FMP, which was approved on September 29, 1999, the measures that may be considered for implementation in addition to a quota, include, but are not limited to, the following: Minimum or maximum fish sizes, seasons, mesh size restrictions, trip limits, or other gear restrictions.”

Dated: February 29, 2000.
Richard W. Surdi,
Acting Director, Office of Sustainable Fisheries, National Marine Fisheries Service.

[FR Doc. 00-5252 Filed 3-2-00; 8:45 am]

BILLING CODE 3510-22-F